DEPARTMENT OF ENERGY

Federal Energy Regulatory Commission

[Docket No. PF05-7-000]

Southern Natural Gas Company; Notice of Intent To Prepare an Environmental Impact Statement for the Proposed Cypress Pipeline Project, Request for Comments on Environmental Issues, and Notice of Public Scoping Meetings

February 18, 2005.

The staff of the Federal Energy Regulatory Commission (FERC or Commission) will prepare an environmental impact statement (EIS) that will discuss the environmental impacts of Southern Natural Gas Company's (Southern) proposed Cypress Pipeline Project. The project involves the construction and operation of natural gas pipeline and compressor facilities in various counties in Georgia and Florida as discussed below.

This notice announces the opening of the scoping process the Commission will use to gather input from the public and interested agencies on the project. Your input will help determine which issues need to be evaluated in the EIS. Please note that the scoping period will close on April 7, 2005.

This notice is being sent to affected landowners; Federal, state, and local government agencies; elected officials; environmental and public interest groups; Native American tribes; other interested parties; and local libraries and newspapers. State and local government representatives are asked to notify their constituents along this proposed project and encourage them to comment on their areas of concern.

Comments regarding this project may be submitted in written form or verbally. Further details on how to submit written or electronic comments are provided in the public participation section of this notice. In lieu of or in addition to sending written comments, we invite you to attend the public scoping meetings we have scheduled as follows:

Date: Tuesday, March 8, 2005, 7 p.m. (EST).

Location: Bloomingdale Community Center, 202 East Moore Street, Bloomingdale, Georgia 31302, (912) 748-0970.

Date: Wednesday, March 9, 2005, 7 p.m. (EST).

Location: Embassy Suites, 500 Mall Boulevard, Glynn Place Mall, Brunswick, Georgia 31525, (912) 264-6100.

Date: Thursday, March 10, 2005, 7 p.m. (EST).

Location: Clarion Hotel Airport, Conference Center, 2101 Dixie Clipper Drive, Jacksonville, Florida 32218, (904) 741-1997.

The FERC will be the lead Federal agency for the preparation of the EIS. The document will satisfy the requirements of the National Environmental Policy Act (NEPA). The U.S. Army Corps of Engineers (COE) has agreed to participate as a cooperating agency in the preparation of the EIS to satisfy its NEPA responsibilities under section 404 of the Clean Water Act and section 10 of the Rivers and Harbors Act.

With this notice, we¹ are asking other Federal, state, local, and tribal agencies with jurisdiction and/or special expertise with respect to environmental issues to cooperate with us in the preparation of the EIS. These agencies may choose to participate once they have evaluated Southern's proposal relative to their responsibilities. Agencies that would like to request cooperating status should follow the instructions for filing comments described later in this notice.

¹ “We,” “us,” and “our” refer to the environmental staff of the Office of Energy Projects.

If you are a landowner receiving this notice, you may be contacted by a Southern representative about the acquisition of an easement to construct, operate, and maintain the proposed facilities. The pipeline company would seek to negotiate a mutually acceptable agreement. However, if the project is approved by the FERC, that approval conveys with it the right of eminent domain. Therefore, if easement negotiations fail to produce an agreement, the pipeline company could initiate condemnation proceedings in accordance with state law.

A fact sheet prepared by the FERC entitled “An Interstate Natural Gas Facility on My Land? What Do I Need To Know?” is available for viewing on the FERC Internet Web site (http://www.ferc.gov). This fact sheet addresses a number of typically asked questions, including the use of eminent domain and how to participate in the FERC's proceedings.

Summary of the Proposed Project

Southern proposes to construct and operate new pipeline facilities to provide approximately 500 million cubic feet per day of natural gas capacity to the project area in southeastern Georgia and northern Florida. Specifically, Southern seeks authority to construct and operate:

About 165 miles of 24-inch-diameter mainline pipeline in Chatham, Effingham, Bryan, Liberty, Long, McIntosh, Glynn, Camden, and Charlton Counties, Georgia, and Nassau, Duval, and Clay Counties, Florida;

About 10 miles of 30-inch-diameter pipeline loop ² in Chatham and Effingham Counties, Georgia;

² A loop is segment of pipeline that is usually installed adjacent to an existing pipeline and connected to it at both ends. The loop allows more gas to be moved through the system.

10,350 horsepower (hp) of gas turbine-driven compression at the proposed Compressor Station #1 in Liberty County, Georgia;

10,350 hp of gas-turbine driven compression at the proposed Compressor Station #2 in Glynn County, Georgia;

10,350 hp of gas-turbine driven compression at the proposed Compressor Station #3 in Nassau County, Florida;

Four new meter stations including:

—Atlanta Gas Light Meter Station in Glynn County, Georgia,

—South Georgia Natural Gas Meter Station in Nassau County, Florida,

—Brandy Branch Power Plant Meter Station in Duval County, Florida,

—Florida Gas Transmission Meter Station in Clay County, Florida;

A pig ³ launcher/receiver facility at the beginning of the 30-inch-diameter pipeline loop at Port Wentworth in Chatham County, Georgia; a regulator setting and a pig launcher/receiver facility at the end of the 30-inch-diameter pipeline loop near Rincon in Effingham County, Georgia; a pig launcher/receiver facility at the beginning of the 24-inch-diameter mainline pipeline near Rincon in Effingham County, Georgia; two pig launcher/receiver facilities at the Compressor Station #2 site in Glynn County, Georgia; and a pig launcher/receiver facility at the end of the 24-inch-diameter mainline pipeline at the Florida Gas Transmission Meter Station in Clay County, Florida; and

14 mainline valves.

³ A pig is an internal tool that can be used to clean and dry a pipeline and/or to inspect it for damage or corrosion.

Southern is requesting approval to begin construction of the proposed facilities in the Fall of 2006 and proposes an in-service date of Spring 2007. A general overview map of the major project facilities is provided in Appendix 1.⁴

⁴ The appendices referenced in this notice are not being printed in the Federal Register. Copies are available on the Commission's Internet Web site (http://www.ferc.gov) at the “eLibrary” link or from the Commission's Public Reference Room at (202) 502-8371. For instructions on connecting to eLibrary, refer to the end of this notice. Copies of the appendices were sent to all those receiving this notice in the mail. Requests for detailed maps of the proposed facilities should be made directly to Southern (see http://www.cypresspipeline.com for contact information).

Land Requirements for Construction

Construction of the proposed facilities would require about 2,105.2 acres of land. Following construction, about 1,045.0 acres would be maintained as permanent right-of-way and aboveground facility sites. The remaining 1,060.2 acres of temporary workspace would be restored and allowed to revert to its former use. About 98 percent of the pipeline route would parallel existing utility rights-of-way.

The typical construction right-of-way for the mainline pipeline would be 95 feet wide, consisting of 28 feet within an existing powerline easement and 67 feet of new temporary workspace. Additional right-of-way width and temporary extra workspace would be required at certain feature crossings (e.g., roads, railroads, waterbodies) and areas requiring topsoil segregation and special construction techniques. After construction, Southern would retain a 50-foot-wide permanent right-of-way adjacent to the existing powerline right-of-way.

The typical construction right-of-way for the pipeline loop would be 95 feet wide, consisting of 50 feet within Southern's existing easement and 45 feet of new temporary workspace. Additional temporary extra workspace would be required as described above for the mainline pipeline. The loop would be installed within Southern's existing easement at a 20-foot offset from the existing 20-inch-diameter pipeline. No new permanent right-of-way would be required.

Each compressor station would be located on an approximate 30-acre parcel of land that Southern would acquire. After construction, each compressor station would require 15 acres for operation; the remaining acreage would be retained as a buffer. The meter stations would each require about 1.5 acres of land. The pig launcher and receiver facilities and mainline valves would be installed within the permanent right-of-way or within the boundaries of other aboveground facility sites.

The EIS Process

NEPA requires the Commission to take into account the environmental impacts that could result from an action whenever it considers the issuance of a Certificate of Public Convenience and Necessity. NEPA also requires the Commission to discover and address concerns the public may have about proposals. This process is referred to as “scoping.” The main goal of the scoping process is to focus the analysis in the EIS on the important environmental issues and reasonable alternatives.

Although no formal application has been filed, we have already initiated our NEPA review under the FERC's Pre-Filing Process. The purpose of the Pre-Filing Process is to encourage the early involvement of interested stakeholders and to identify and resolve issues before an application is filed with the FERC.

As part of our Pre-Filing Process review, representatives from the FERC met with the COE on February 8, 2005 to discuss the involvement of the COE in the scoping process and the preparation of the EIS. In addition, representatives from the FERC participated in public open houses sponsored by Southern in the project area on February 15-17, 2005 to explain the environmental review process to interested stakeholders and take comments about the project. During March 2005, the FERC staff will be conducting interagency scoping meetings in the project area to solicit comments and concerns about the project from jurisdictional agencies. By this notice, we are formally announcing our preparation of the EIS and requesting additional agency and public comments to help us focus the analysis in the EIS on the potentially significant environmental issues related to the proposed action.

Our independent analysis of the issues will be included in a draft EIS. The draft EIS will be mailed to Federal, state, and local government agencies; elected officials; environmental and public interest groups; Native American tribes; affected landowners; other interested parties; local libraries and newspapers; and the FERC's official service list for this proceeding. A 45-day comment period will be allotted for review of the draft EIS. We will consider all timely comments on the draft EIS and revise the document, as necessary, before issuing a final EIS.

Currently Identified Environmental Issues

The EIS will discuss impacts that could occur as a result of the construction and operation of the proposed project under the general resource headings listed below. We have already identified several issues that we think deserve attention based on a preliminary review of the proposed facilities and the environmental information provided by Southern. This preliminary list of issues may be changed based on your comments and our additional analysis.

• Geology and Soils.

—Assessment of potential geologic hazards, including sinkholes.

—Potential impact on mineral resources and mining operations.

—Effect on hydric soils and soils with a high potential for compaction.

• Water Resources and Wetlands.

—Effect on groundwater resources.

—Potential effect on perennial streams, intermittent streams, and ponds crossed by or close to the route.

—Effect on waterbodies designated under federal or state programs, including the Altamaha, Satilla, and St. Mary's Rivers.

—Evaluation of temporary and permanent effects on wetlands.

• Fisheries, Wildlife, and Vegetation.

—Effect on fisheries, wildlife, and vegetation resources, including planted pine and forested habitats.

—Effect on vegetative nuisance species.

• Endangered and Threatened Species.

—Potential effect on federally and state-listed species, including the red-cockaded woodpecker, eastern indigo snake, flatwoods salamander, gopher tortoise, and gopher frog.

• Cultural Resources.

—Effect on historic and prehistoric sites.

—Native American and tribal concerns.

• Land Use.

—Impact on residential areas.

—Effect on existing and future land use along the proposed right-of-way, including forested wetlands and pine plantations.

—Effect on recreation and public interest areas, including wildlife management areas, State Forests, a historic canal, and scenic trail systems.

—Visual effect of the aboveground facilities on surrounding areas.

• Socioeconomics.

—Effect of construction workforce demands on public services and temporary housing.

• Air Quality and Noise.

—Effect on local air quality and noise environment from construction and operation of the proposed facilities.

• Reliability and Safety.

—Assessment of public safety factors associated with natural gas facilities.

• Alternatives.

—Assessment of alternative routes, systems, and energy sources to reduce or avoid environmental impacts.

—Assessment of alternative compressor station sites.

• Cumulative Impacts.

—Assessment of the effect of the proposed project when combined with other projects that have been or may be proposed in the same region and similar time frame.

Public Participation

You can make a difference by providing us with your specific comments or concerns about the proposal. Your comments should focus on the potential environmental effects, reasonable alternatives, and measures to avoid or lessen environmental impact. The more specific your comments, the more useful they will be. To ensure that your comments are timely and properly recorded, please mail your comments so that they will be received in Washington, DC on or before April 7, 2005 and carefully follow these instructions:

• Send an original and two copies of your letter to: Magalie R. Salas, Secretary, Federal Energy Regulatory Commission, 888 First St., NE., Room 1A, Washington, DC 20426;

• Label one copy of the comments for the attention of the Gas Branch 1, DG2E; and

• Reference Docket No. PF05-7-000 on the original and both copies.

The public scoping meetings to be held on March 8-10, 2005 in Bloomingdale and Brunswick, Georgia and Jacksonville, Florida, respectively, are designed to provide another opportunity to offer comments on the proposed project. Interested groups and individuals are encouraged to attend these meetings and to present comments on the environmental issues they believe should be addressed in the EIS. Transcripts of the meetings will be made so that your comments will be accurately recorded.

We will include all comments that we receive within a reasonable time frame in our environmental analysis of the project. To expedite our receipt and consideration of your comments, the Commission strongly encourages electronic submission of any comments on this project. See Title 18 Code of Federal Regulations 385.2001(a)(1)(iii) and the instructions on the Commission's Web site at http://www.ferc.gov under the “e-Filing” link and the link to the User's Guide. Before you can submit comments, you will need to create a free account which can be created on-line.

Once Southern formally files its application with the Commission, you may want to become an official party to the proceeding known as an “intervenor.” Intervenors play a more formal role in the process and are able to file briefs, appear at hearings, and be heard by the courts if they choose to appeal the Commission's final ruling. An intervenor formally participates in a Commission proceeding by filing a request to intervene. Instructions for becoming an intervenor are included in the User's Guide under the “eFiling” link on the Commission's Web site. Please note that you may not request intervenor status at this time. You must wait until a formal application is filed with the Commission.

Affected landowners and parties with environmental concerns may be granted intervenor status upon showing good cause by stating that they have a clear and direct interest in this proceeding that would not be adequately represented by any other parties. You do not need intervenor status to have your environmental comments considered.

Environmental Mailing List

If you received this notice, you are on the environmental mailing list for this project and will continue to receive project updates including the draft and final EIS. If you do not want to remain on our mailing list, please return the Remove From Mailing List Form included in Appendix 2. If you return this form, you will be removed from the Commission's environmental mailing list.

Availability of Additional Information

Additional information about the project is available from the Commission(s Office of External Affairs at 1-866-208 FERC or on the FERC Internet Web site (http://www.ferc.gov) using the “eLibrary” link. Click on the eLibrary link, click on “General Search,” and enter the docket number excluding the last three digits in the Docket Number field (i.e., PF05-7). Be sure you have selected an appropriate date range. For assistance, please contact FERC Online Support at FERCOnlineSupport@ferc.gov or toll free at 1-866-208-3676, or for TTY, contact (202) 502-8659. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Finally, Southern has established an Internet Web site for its project at http://www.cypresspipeline.com. The Web site includes a description of the project and links to related documents.

Magalie R. Salas,
Secretary.

[FR Doc. E5-782 Filed 2-24-05; 8:45 am]

BILLING CODE 6717-01-P